NUCLEAR REGULATORY COMMISSION

[NRC-2017-0001]

Sunshine Act Meeting Notice

DATE: Weeks of April 17, 24, May 1, 8, 15, 22, 2017.

PLACE: Commissioners' Conference Room, 11555 Rockville Pike, Rockville, Maryland.

STATUS: Public and Closed.

Week of April 17, 2017

There are no meetings scheduled for the week of April 17, 2017.

Week of April 24, 2017—Tentative

Wednesday, April 26, 2017

9:00 a.m. Briefing on the Status of Subsequent License Renewal Preparations (Public Meeting); (Contact: Steven Bloom: 301-415-2431).

This meeting will be webcast live at the Web address— http://www.nrc.gov/.

Thursday, April 27, 2017

10:00 a.m. Meeting with the Advisory Committee on the Medical Uses of Isotopes (Public Meeting); (Contact: Douglas Bollock: 301-415-6609).

This meeting will be webcast live at the Web address— http://www.nrc.gov/.

Week of May 1, 2017—Tentative

There are no meetings scheduled for the week of May 1, 2017.

Week of May 8, 2017—Tentative

Tuesday, May 9, 2017

10:00 a.m. Briefing on Security Issues (Closed Ex. 1).

2:00 p.m. Briefing on Security Issues (Closed Ex. 1).

Thursday, May 11, 2017

9:00 a.m. Briefing on Risk-Informed Regulation (Public Meeting); (Contact: Steve Ruffin: 301-415-1985).

This meeting will be webcast live at the Web address— http://www.nrc.gov/.

Week of May 15, 2017—Tentative

There are no meetings scheduled for the week of May 15, 2017.

Week of May 22, 2017—Tentative

There are no meetings scheduled for the week of May 22, 2017.

* * * * *

The schedule for Commission meetings is subject to change on short notice. For more information or to verify the status of meetings, contact Denise McGovern at 301-415-0681 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: April 12, 2017.
Denise L. McGovern,
Policy Coordinator, Office of the Secretary.

[FR Doc. 2017-07745 Filed 4-12-17; 4:15 pm]

BILLING CODE 7590-01-P